DEPARTMENT OF JUSTICE

Drug Enforcement Administration

Alfred S. Santucci, D.M.D.; Revocation of Registration

On May 13, 2002, the Deputy Assistant Administrator, Office of Diversion Control, Drug Enforcement Administration (DEA), issued an Order to Show Cause to Alfred S. Santucci, D.M.D. of Niles, Ohio, notifying him of an opportunity to show cause as to why DEA should not revoke his DEA Certificate of Registration, BS1782665 under 21 U.S.C. 824(a), and deny any pending applications for renewal or modification of that registration. As a basis for revocation, the Order to Show Cause alleged that Dr. Santucci not currently authorized to handle controlled substances in Ohio, the state in which he practices, and had been convicted of a felony involving controlled substances. The order also notified Dr. Santucci that should no request for a hearing be filed within 30 days, his hearing right would be deemed waived.

By letter of June 10, 2002, Dr. Santucci requested an administrative hearing. On July 9, 2002, DEA filed the Government's Motion for Summary Disposition and Request for Stay of the Filing of Prehearing Statement. The Motion was based upon the argument that no facts were at issue: DEA cannot register or maintain the registration of a practitioner who is not duly authorized to handle controlled substances in the state in which he conducts business. Dr. Santucci did not respond to the Motion. On September 18, 2002, Administrative Law Judge Mary Ellen Bittner certified and transmitted the record in the matter to the Deputy Administrator along with her Opinion and Recommended Decision. In her Decision, the Administrative Law Judge granted DEA's Motion for Summary Disposition and recommended that Dr. Santucci's DEA registration be revoked.

The Deputy Administrator has carefully reviewed the entire record in this matter, as defined above, and hereby issues this final order as prescribed by 1301.46, based upon the following findings and conclusions. The Deputy Administrator adopts the Opinion and Recommended Decision of the Administrative Law Judge, and his adoption is in no manner diminished by any recitative of facts, issues and conclusions herein, or of any failure to mention a matter of fact or law. The Deputy Administrator now enters his final order without a hearing pursuant to 21 C.F.R. 1301.43(d) and (e) and 1301.46.

The Deputy Administrator finds that Dr. Santucci possesses DEA Certificate of Registration B1782665. On February 14, 2001, Dr. Santucci entered into a consent agreement with Ohio State Dental Board which imposed an indefinite suspension of Dr. Santucci's license to practice dentistry. Loss of state authority to engage in the practice of medicine is an independent ground to revoke a practitioner's registration under 21 U.S.C. 824(a)(3). This agency has consistently held that a person may not maintain a DEA registration if he is without appropriate authority under the laws of the State in which he does business. See Anne Lazar Thorn, M.D., 62 FR 12,847 (DEA1997); Bobby Watts, M.D., 53 FR 11,919 (DEA 1988); Robert F. Witek, D.D.S., 52 FR 47,770 (DEA 1987).

Dr. Santucci has not denied that he is currently not licensed to practice medicine in Ohio, the jurisdiction in which he is registered. Accordingly, he is not entitled to a DEA registration. As the Administrative Law Judge stated, it is well-settled that when no question of fact is involved, or when the material facts are agreed upon, a plenary, adversial administrative proceedings is not required. See Jesus R. Jaurez, M.D., 62 FR 14,945 (DEA 1997); Dominick A. Ricci, M.D., 58 FR 51,104 (DEA 1993).

Accordingly, the Deputy Administrator of the Drug Enforcement Administration, pursuant to the authority vested in him by 21 U.S.C. 823 and 824 and 28 CFR 0.100(b) and 0.104, grants the agency's Motion for Summary Disposition and hereby orders that DEA Certificate of Registration BSS1782665 issued to Alfred S. Santucci, D.M.D. be, and hereby is, revoked. The Deputy Administrator further orders that any pending applications for renewal of such registration be, and they hereby are, denied. This order is effective December 12, 2002.

Dated: October 28, 2002.
John B. Brown, III,
Deputy Administrator.

[FR Doc. 02-28659 Filed 11-8-02; 8:45 am]

BILLING CODE 4410-09-M